DEPARTMENT OF HEALTH AND HUMAN SERVICES

Administration for Children and Families

Submission for OMB Review; Evaluation of Project Connect (New Collection)

AGENCY: Office of Planning, Research, and Evaluation; Administration for Children and Families; HHS.

ACTION: Request for public comment.

SUMMARY: The Administration for Children and Families (ACF) at the U.S. Department of Health and Human Services (HHS) is proposing a new information collection to assess the implementation of Project Connect, a comprehensive home visitation intervention that provides home-based services and treatment to child welfare-involved, substance-affected families with children and adolescents ages 0 to 17.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The proposed information collection activity will assess the implementation of Project Connect, a comprehensive home visitation intervention that provides home-based services and treatment to child welfare-involved, substance-affected families with children and adolescents ages 0 to 17. The program aims to strengthen and address the complex needs of substance-affected families by providing intensive, long-term services that address issues of unhealthy parental substance use and provide help for parents recover while keeping children safe. It focuses on maintaining children safely in their homes and preventing admission to care, or facilitating reunification when children have been placed in out-of-home care.

The implementation study will support a planned effectiveness evaluation that will rely on administrative data to examine the impact of the program on child welfare outcomes. These information collection activities will take place over the course of five site visits to the program and child welfare agency that are participating in the study. Information collection activities include interviews with program and child welfare agency administrators, focus groups with program and child welfare agency staff, interviews and focus groups with participants, interviews with other program stakeholders, and observations of program staff meetings, program delivery, and judicial hearings. Site visits will also include direct observations of staff delivery of the program, program staff meetings, and relevant judicial hearings/activities for program families.

This evaluation is part of a larger project to help ACF build the evidence base in child welfare through rigorous evaluation of programs, practices, and policies. The activities and products from this project will contribute to evidence building in child welfare and help to determine the effectiveness of a substance use program on child welfare outcomes.

Respondents: Semi-structured interviews will be completed with agency and program administrators, parents who are participating in the program, parents receiving services as usual, and other program stakeholders. Focus groups will be conducted with agency and program staff and parents who are participating in the program and parents receiving services as usual.

Annual Burden Estimates
Instrument | Number of respondents (total over request period) | Number of responses per respondent (total over request period) | Avg. burden per response (in hours) | Total burden (in hours) | Annual burden (in hours)
Interview Guide for Administrators (Project Connect, Child Welfare Agency, and Child Welfare Central Referral Unit) | 14 | 1 | 1 | 14 | 5
Focus Group Guide for Staff (Project Connect and Child Welfare Agency Staff) | 24 | 1 | 1.50 | 36 | 12
Interview Guide for Other Stakeholders (Behavioral Health and Judicial Stakeholders) | 12 | 1 | 1 | 12 | 4
Interview Guide for Families | 16 | 1 | 1 | 16 | 5
Focus Group Guide for Families | 24 | 1 | 1.5 | 36 | 12

Estimated Total Annual Burden Hours: 38.

Authority: 42 U.S.C. 676.

Mary B. Jones,
ACF/OPRE Certifying Officer.

[FR Doc. 2021-11934 Filed 6-7-21; 8:45 am]

BILLING CODE 4184-25-P